DEPARTMENT OF EDUCATION

Intent To Compromise Claim Against Community Unit School District 300, Carpentersville, IL

AGENCY: Department of Education.

ACTION: Notice of intent to compromise a claim with request for comments.

SUMMARY: The United States Department of Education (Department) intends to compromise a claim against Community Unit School District 300, Carpentersville, Illinois (CUSD 300) now pending before the Office of Administrative Law Judges (OALJ), Docket No. 02-91-R. Before compromising a claim, the Department must publish its intent to do so in the Federal Register and provide the public an opportunity to comment on that action (20 U.S.C. 1234a(j)).

DATES: We must receive your comments on the proposed action on or before March 17, 2003.

ADDRESSES: Address all comments concerning the proposed action to Ronald B. Petracca, Esq., Office of the General Counsel, U.S. Department of Education, 400 Maryland Avenue, SW., room 6C111, Washington, DC 20202-2110.

FOR FURTHER INFORMATION CONTACT: Ronald B. Petracca, Esq. Telephone (202) 401-8316. If you use a telecommunications device for the deaf (TDD), you may call the Federal Information Relay Service (FIRS) at 1-800-877-8339.

Individuals with disabilities may obtain this document in alternative format (e.g., Braille, large print, audio tape, or computer diskette) on request to the contact person listed under FOR FURTHER INFORMATION CONTACT.

SUPPLEMENTARY INFORMATION:

Invitation to Comment

We invite you to submit comments regarding this proposed action. During and after the comment period, you may inspect all public comments in room 6c111, FB-6, 400 Maryland Avenue, SW., Washington, DC, between the hours of 8:30 a.m. and 4 p.m., Eastern time, Monday through Friday of each week except Federal holidays.

Assistance to Individuals With Disabilities in Reviewing Comments

On request, we will supply an appropriate aid, such as a reader or print magnifier, to an individual with a disability who needs assistance to review the comments. If you want to schedule an appointment for this type of aid, please contact the person listed under FOR FURTHER INFORMATION CONTACT.

Background

The claim in question arose when the Director of the Department's Post Audit Group, Financial Improvement and Post Audit Operations, Office of the Chief Financial Officer, issued a program determination letter (PDL) on September 20, 2002. The PDL demanded a refund of $684,299 of funds awarded by the Department to CUSD 300 under the Systemwide Improvement Grant Program, which was authorized by sections 7115 and 7116 of the Elementary and Secondary Education Act of 1965, as amended by Improving America's Schools Act of 1994, 20 U.S.C. 7425-7426 (2000). The purpose of this program is to support the efforts of school districts to serve Limited English proficient students. The grant in question had a funding period that began on August 1, 1997 and ended on July 31, 1999. The Director determined that the funds disallowed had been used for improper or unsupported expenditures for personnel, fringe benefits, travel, supplies, training, and other items. In addition, the Director disallowed indirect costs charged to the grant that were related to these unallowable direct expenditures. Finally, the Director disallowed grant funds draw down by CUSD 300 that exceeded the amount of funds CUSD 300's own accounting records show as having been expended on this grant.

CUSD 300 filed a timely request for review of the PDL with the OALJ. Thereafter, the Administrative Law Judge assigned to the appeal granted the parties' joint motion to conduct voluntary discovery, engage in settlement negotiations, and suspend the procedural schedule.

CUSD 300, during the course of settlement discussion with the Department, submitted documentation and analysis to support its view that $77,706.32 of questioned and unsupported personnel costs and unsupported fringe benefit, training, and other costs disallowed by the PDL are allowable. After consideration of this documentation and analysis, the Department proposes to compromise the claim of $684,299 for $607,906.08; nearly 90% of the amount disallowed by the Director in the PDL.

Based on the amount that would be repaid by CUSD 300 under the proposed settlement agreement, the documentation CUSD 300 submitted during settlement discussions, and the litigation risks and costs of proceeding through the administrative and, possibly, court process for this appeal, the Department has determined that it would not be practical or in the public interest to continue this proceeding. Rather, under the authority in 20 U.S.C. 1234a(j), the Department has determined that compromise of this claim for $607,906.08 is appropriate.

The public is invited to comment on the Department's intent to compromise this claim. Additional information may be obtained by calling or writing to Ronald B. Petracca, Esq. at the telephone number and address listed at the beginning of this document.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html.

Program Authority: 20 U.S.C. 1234a(j).

Dated: January 23, 2003.
Jack Martin,
Chief Financial Officer.

[FR Doc. 03-2108 Filed 1-29-03; 8:45 am]

BILLING CODE 4000-01-P